DEPARTMENT OF ENERGY

Federal Energy Regulatory Commission

[Docket No. CP05-391-000]

Williston Basin Interstate Pipeline Company; Notice of Filing

July 13, 2005.

Take notice that on July 5, 2005, Williston Basin Interstate Pipeline Company (Williston Basin), 1250 West Century Avenue, Bismarck, North Dakota 58503, filed an abbreviated application, pursuant to section 7(b) of the Natural Gas Act (NGA) and part 157 of the Commission's Rules and Regulations, for an Order Permitting and Approving Abandonment of certain natural gas storage facilities in Fallon County, Montana. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Williston Basin requests authorization for the abandonment of three existing natural gas storage injection/withdrawal wells in the Baker Storage Field, Fallon County, Montana. The proposed wells to be abandoned are Well Nos. 136, 195, and 287. Williston Basin states that these wells are old and have been shut-in. Williston Basin believes the abandonment will have no effect on the certificated maximum deliverability of 114,815 Mcf per day of the Baker Storage Field. In conjunction with the proposed abandonment, Williston Basin will also abandon the field meter station associated with Well No. 195 and a total of approximately 0.8 miles of field storage line associated with the three wells. The abandonment of the meter station and storage field lines will be performed pursuant to Williston Basin's blanket certificate authorized under Docket Nos. CP82-487-000, et al.

Any questions regarding the application are to be directed to Keith A. Tiggelaar, Director of Regulatory Affairs, Williston Basin Interstate Pipeline Company, P.O. Box 5601, Bismarck, North Dakota 58506-5601; phone number (701) 530-1560.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see 18 CFR 385.2001 (a)(1)(iii) and the instructions on the Commission's Web site under the “e-Filing” link. The Commission strongly encourages electronic filings.

Comment Date: 5 p.m. Eastern Time on August 3, 2005.

Magalie R. Salas,
Secretary.

[FR Doc. E5-3816 Filed 7-18-05; 8:45 am]

BILLING CODE 6717-01-P